DEPARTMENT OF THE TREASURY

Internal Revenue Service

26 CFR Part 1

[TD 9909]

RIN 1545-BP35

Limitation on Deduction for Dividends Received From Certain Foreign Corporations and Amounts Eligible for Section 954 Look-Through Exception

Correction

In rule document 2020-18543 beginning on page 53068 in the issue of Thursday, August 27, 2020, make the following corrections:

1. (a) On page 53074, in the second column, in the second full paragraph, in the ninth line “$100 ×” should read “$100x”.

(b) On the same page, in the same column, in the same paragraph, in the 13th line “$100 ×” should read “$100x”.

(c) On the same page, in the same column, in the same paragraph, in the 21st line “$100 ×” should read “$100x”.

2. On page 53074, in the second column, in the second full paragraph, in the 15th line “$1 ×” should read “$1x”.

3. On page 53074, in the second column, in the second full paragraph, in the 17th line “$99 ×” should read “$99x”.

4. (a) On page 53075, in the third column, in the first full paragraph, in the 11th line “$100 ×” should read “$100x”.

(b) On the same page, in the same column, in the same paragraph, in the 13th line “$100 ×” should read “$100x”.

(c) On the same page, in the same column, in the same paragraph, in the 15th line “$100 ×” should read “$100x”.

(d) On the same page, in the same column, in the same paragraph, in the 20th line “$100 ×” should read “$100x”.

(e) On the same page, in the same column, in the same paragraph, in the 27th line “$100 ×” should read “$100x”.

(f) On the same page, in the same column, in the same paragraph, in the 37th line “$100 ×” should read “$100x”.

§ 1.245A-5 [Corrected]

5. On page 53086, in § 1.245A-5, in the third column, in the second full paragraph, in the 19th line the heading “(B) Special rules regarding carryover foreign target stock.” should start a new paragraph.

[FR Doc. C1-2020-18543 Filed 9-24-20; 8:45 am]

BILLING CODE 1301-00-D